ADVISORY COUNCIL ON HISTORIC PRESERVATION

Draft Program Comment Regarding World War II and Cold War Era Ammunition Storage Facilities

AGENCY: Advisory Council on Historic Preservation.

ACTION: Notice of intent to issue program comment on World War II and Cold War era ammunition storage facilities.

SUMMARY: The Department of Defense (DoD) is formulating its plan on how to manage its inventory of World War II (1939-1946) and Cold War (1946-1974) era ammunition storage facilities. In order to better meet its Federal historic preservation responsibilities in managing these properties, DoD has requested the Advisory Council on Historic Preservation (ACHP) to comment on the overall management of such properties, as opposed to submit each individual undertaking under such management to separate review. DoD and ACHP have drafted such a comment and now seek public input on it. ACHP will take into account this public input prior to deciding whether to issue the program comment.

DATES: Submit comments on or before May 12, 2006.

ADDRESSES: Address all comments concerning this proposed program comment to Dave Berwick, Army Program Manager, Office of Federal Agency Programs, Advisory Council on Historic Preservation, 1100 Pennsylvania Avenue, Suite 809, Washington, DC 20004. Fax 202-606-8672. You may submit electronic comments to dberwick@achp.gov.

FOR FURTHER INFORMATION CONTACT: Dave Berwick (202) 606-8505.

SUPPLEMENTARY INFORMATION: Section 106 of the National Historic Preservation Act requires Federal agencies to consider the effects of their undertakings on historic properties and provide the Advisory Council on Historic Preservation (ACHP) a reasonable opportunity to comment with regard to such undertakings. ACHP has issued the regulations that set forth the process through which Federal agencies comply with these duties. Those regulations are codified under 36 CFR part 800 (“Section 106 regulations”).

Under Section 800.14(e) of those regulations, agencies can request ACHP to provide a “Program Comment” on a particular category of undertakings in lieu of conducting individual reviews of each individual undertaking under such category, as set forth in 36 CFR 800.4 through 800.6. An agency can meet its Section 106 responsibilities for those undertakings by taking into account ACHP's Program Comment and by following the steps set forth in those comments.

The Department of Defense (DoD) has requested such a Program Comment to cover management of its World War II and Cold War era ammunition storage facilities. A copy of the draft Program Comment can be found at the end of this notice. Once the public input resulting from this notice is considered, ACHP will decide whether to issue a final Program Comment to DoD.

Background on World War II and Cold War Era Ammunition Storage Facilities

Ammunition and explosives storage structures, usually called magazines, are present at most former and present U.S. military installations. The structures generally have an utilitarian form. Prior to the mid-1920s, magazines were generally warehouse-type structures constructed to house the volatile materiel. They were built of stone and brick and provided mostly dry, ventilated, and secure storage for ammunition and explosives. However, in 1926 at Lake Denmark, New Jersey, a set of chain reaction explosions changed the way ammunitions and explosives would be stored.

A new earth-covered concrete magazine was designed that directed the force of the explosion upward rather than outward, decreasing the chances of sympathetic, chain reaction explosions. This igloo-type magazine was then used throughout the military and was modified a few times, but generally was the predominant type of magazine after the 1920s. The underground igloos, although exhibiting considerable variation, share a very basic design plan: That of an arched barrel-shaped vault. Some partially bermed (covered with earth) facilities, such as the Richmond Magazine, were designed during World War II (WWII) as a wartime substitute for the practical igloo designs prompted by material shortages and mobilization needs and lacked the arched concrete roof and concrete front wall. The general design of igloo storage did not change much until modified once again in the late 1980s.

Modern ammunition storage facilities reflect the spacing and construction technique lessons learned in the 1926 Lake Denmark disaster, in which ammunition bunkers exploded in a chain reaction. There are six standardized underground igloo magazine designs that were used during WWII to store high explosives, and several types of aboveground magazines for particular classes of ammunition. The Cold War period saw only minor modifications to existing designs to satisfy the needs of newer technology.

DoD has identified 29,425 ammunition storage facilities that fall within the category being considered under this Program Comment. These ammunition storage facilities can be found at most military installations nationwide.

The Department of the Army (Army) has 76% of the DoD inventory, totaling 22,407 facilities. The Army's inventory consists of 19,409 WWII era facilities and 2,998 Cold War era facilities. Of the combined total, 15,301 are underground storage facilities.

The Department of the Navy (Navy), which includes the Marine Corps, has over 17% of the total DoD inventory with 5,108 facilities. The Navy's inventory consists of 4,143 WWII era facilities and 965 Cold War era facilities. Of its combined total, 4.084 are underground storage facilities.

The Department of the Air Force (Air Force) has just over 6% of the total DoD inventory with 1,910 facilities. The Air Force's inventory consists of 263 WWII era facilities and 1,647 Cold War Era Facilities. Of its combined total, 1,311 are underground facilities.

This Program Comment will include all buildings and structures that were designed and built as ammunition storage facilities within the years 1939-1974, regardless of current use, and that are identified by a DoD Category Group (2 digit) Code of 42, Ammunition Storage (category code 42XXXX), in the Military Service's Real Property Inventory currently or at the time of construction.

DoD anticipates that all of its WWII and Cold War era ammunition storage facilities will be subject to the following categories of undertakings: Ongoing operations, maintenance and repair, rehabilitation renovation, mothballing, cessation of maintenance, new construction, demolition, deconstruction and salvage, remediation activities, and transfer, sale, lease, and closure. DoD is requesting that the ACHP issue a Program Comment on these categories of undertakings for all WWII and Cold War Era DoD ammunition storage facilities. Therefore, there is a potential for adverse effects to historic properties.

Under the Ammunition Storage Program Comment, a possible, though not likely, outcome would be the alteration or demolition of the entire group of Ammunition Storage property types built between 1939 and 1974. Because many of these properties are still being actively used by the Military Departments to store ammunition, it is more likely that many of these buildings will remain in use and in the inventory. However, as alteration or complete demolition is an option under the Program Comment, the proposed mitigation must reflect and address that possibility. Because the significance of these properties lies not only in their association with the history surrounding the development of ammunition and ammunition storage during the WWII and Cold War eras, but also in their engineering and design qualities, the loss of this entire class of properties would be significant if the record of the association and design features was not completed before the buildings are irreversibly altered or demolished. In this case, however, the proposed documentation will record both the historical associations and the design features of the properties. Consequently, because the important aspects of these properties will be well documented through the history, plans, and photographs, even if all the properties are demolished, the effect of the loss should not be historically significant.

Text of the Proposed Comment

The following is the full text of the draft Program Comment:

Program Comment for World War II and Cold War Era Ammunition Storage Facilities

I. Introduction

This Program Comment provides the Department of Defense (DoD) and its Military Departments with an alternative way to comply with their responsibilities under Section 106 of the National Historic Preservation Act with regard to the effect of the following management actions on World War II and Cold War Era ammunition storage facilities that may be listed or eligible for listing on the National Register of Historic Places: Ongoing operations, maintenance and repair, rehabilitation, renovation, mothballing, cessation of maintenance, new construction, demolition, deconstruction and salvage, remediation activities, and transfer, sale, lease, and closure of such facilities.

In order to take into account the effects on World War II and Cold War Era ammunition storage facilities, DoD and its Military Departments will conduct documentation in accordance with The Secretary of the Interior's Standards and Guidelines for Archeology and Historic Preservation. As each Military Department will be responsible for conducting its own mitigation actions, the following required documentation is structured by Military Department, followed by DoD-wide requirements.

II. Treatment of Properties

A. Army Mitigation

1. The Army shall expand and revise its existing context study, Army Ammunition and Explosives Storage in the United States, 1775-1945 to include the Cold War Era. This document provides background information and criteria for evaluating the historic significance of such buildings. The updated context study will:

—Identify the changes in ammunition storage during the Cold War;

—Focus on the changes required for ammunition storage due to technological advancement in weaponry;

—Consider the importance of major builders, architects or engineers that may have been associated with design and construction of Ammunition Storage Facilities throughout the Army or at specific Amy installations; and

—Describe the inventory of Ammunition Storage Facilities in detail, providing information on the various types of buildings and architectural styles and the quantity of each.

2. The Army shall undertake in-depth documentation on Ammunition Storage Facilities at nine installations. The existing context study concluded that the Army possessed “only a few basic types and an abundance of examples” of Ammunition Storage Facilities, due to the standardization of ammunition storage facilities beginning in the 1920s. The context study suggests that six geographically dispersed installations contain an array of primary examples of both aboveground and underground magazines with a high degree of integrity:

—Hawthorne Army Depot, Nevada—early igloos;

—McAlester Army Ammunition Plant, Oklahoma—Corbetta Beehive;

—Pine Bluff Arsenal, Arkansas—biological and chemical igloos;

—Ravenna Army Ammunition Plant, Ohio—standard World War II and aboveground magazines;

—Blue Grass Army Ammunition Plant, Kentucky—standard World War II igloos and aboveground magazines; and

—Louisiana Army Ammunition Plant, Louisiana—Stradley special weapons.

The Army shall document these six as well as three additional installations that possess Cold War Era Ammunition Storage Facilities. Documentation at the three additional installations will be determined after completion of the expended context study described in section II.A.1., above. This study will include a brief history of the installation and the surrounding community, if appropriate, and a detailed history of the storage facilities and documentation of the buildings. The documentation will primarily consist of historic photographs and existing plans. Documentation will be tailored to address the different natures of aboveground and underground storage.

B. Navy Mitigation

1. The Navy will develop a supplemental context study that will be attached as an appendix to the Army's existing context study, Army Ammunition and Explosives Storage in the United States, 1775-1945. The final product will be a separately bound volume of additional information and photographs and tabular appendices that, when presented with the Army's and Air Force's context studies, provide a clear picture of the Department of Defense's Ammunition Storage facilities. This context study appendix will:

—Cover both World War II and the Cold War Era, form 1939-1974;

—Explore the changes in ammunition storage resulting from World War II;

—Examine the changes required for ammunition storage due to technological advancement in weaponry during the Cold War;

—Consider the importance of major builders, architects or engineers that may have been associated with design and construction of Ammunition Storage Facilities; and

—Describe the inventory of Ammunition Storage Facilities in detail, providing information on the various types of buildings and architectural styles and the quantity of each.

2. The Navy shall document a representative sample of the basic types of both aboveground and underground ammunition storage facilities. The Navy will choose three geographically dispersed installations with the greatest number and variety of such resources. The Marines will choose one such installation. The sample chosen shall be the best representative examples of the range of Ammunition Storage types constructed during World War II and the Cold War era. This documentation will include collecting existing plans and drawings, writing a historic description in narrative or outline format, and compiling existing historic photographs of the structures. Documentation will be tailored to address the different natures of aboveground and underground storage.

C. Air Force Mitigation

1. The Air Force will develop a supplemental context study that will be attached as an appendix to the Army's existing context study, Army Ammunition and Explosives Storage in the United States, 1775-1945. The final product will be a separately bound volume of additional information and photographs and tabular appendices that, when presented with the Army's and Navy's context studies, provide a clear picture of the Department of Defense's Ammunition Storage facilities. The context study appendix will:

—Cover the Cold War Era, from 1946-1974;

—Explore the changes in ammunition storage resulting from the Cold War;

—Examine the changes required for ammunition storage due to technological advancement in weaponry during the Cold War;

—Consider the importance of major builders, architects or engineers that may have been associated with design and construction of Ammunition Storage Facilities; and

—Describe the inventory of Ammunition Storage Facilities in detail, providing information on the various types of buildings and architectural styles and the quantity of each.

2. The Air Force shall document a representative sample of the basic types of both aboveground and underground ammunition storage facilities. The Air Force will choose three geographically dispersed installations with the greatest number and variety of such resources. The sample chosen shall be the best representative examples of the range of Ammunition Storage types constructed during the Cold War era. This documentation would include collecting existing plans and drawings, writing a historic description in narrative or outline format, and compiling existing historic photographs of the structures. Documentation will be tailored to address the different natures of aboveground and underground storage.

3. The Air Force will not be required to consider its World War II Era facilities in these mitigation actions. The Air Force was established in September 1947 and therefore was not associated with structures constructed during this era. Rather the Air Force has inherited its current inventory of 263 World War II Era Ammunition Storage facilities from former Army installations. Given the substantial mitigation actions that will be undertaken by the Army to document its facilities, further documentation for the small number of similar facilities located at Air Force installations provides no additional historic value. While no documentation will be done on World War II facilities under the Air Force's control, all of the 263 facilities in its inventory are covered under this Program Comment.

D. DoD-Wide Mitigation

1. Copies of the documentation described above will be made available electronically, to the extent possible under security concerns, and hard copies will be placed in a permanent repository, such as the Center for Military History.

2. In addition, as a result of on-going consultations, each Military Department will provide a list of properties covered by the Program Comment, by State, to State Historic Preservation Officers, Tribal Historic Preservation Officers, and other interested parties, as appropriate. Each Military Department will be responsible for determining how to convey its information.

3. All Military Departments will encourage adaptive reuse of the properties when feasible, as well as the use of historic tax credits by private developers under lease arrangements. Military Departments will also incorporate adaptive reuse and preservation principles into master planning documents and activities.

The above actions satisfy DoD's requirement to take into account the effects of the following management actions on World War II and Cold War Era ammunition storage facilities that may be listed or eligible for listing on the National Register of Historic Places: Ongoing operations, maintenance and repair, rehabilitation, renovation, mothballing, cessation of maintenance, new construction, demolition, deconstruction and salvage, remediation activities, and transfer, sale, lease, and closure of such facilities.

III. Applicability

A.1. This Program Comment applies solely to World War II and Cold War Era DoD ammunition storage facilities. The Program Comment does not apply to the following properties that are listed, or eligible for listing, on the National Register of Historic Places: (1) Archeological properties, (2) properties of traditional religious and cultural significance to federally recognized Indian tribes or Native Hawaiian organizations, and/or (3) ammunition storage facilities in National Register of Historical Places districts where the ammunition storage facility is a contributing element of the district and the proposed undertaking has the potential to adversely affect such historic district. This third exclusion does not apply to historic districts that are made up solely of ammunition storage facility properties. In those cases the Program Comment would be applicable to such districts.

Since the proposed mitigation for the Ammunition Storage facilities documents site plans, building designs, and the spatial arrangement of ammunition storage facilities, along with the events and actions that lead to the development of standardized ammunition storage facilities in DoD, the important aspects of ammunition storage, whether single buildings or districts made up entirely of ammunition storage, will be addressed regardless of the type of undertaking that may affect this particular property type. The one currently known ammunition storage district, at Hawthorne Army Ammunition Plant, has been identified for further study, as outlined in Section II(A)(2) above.

2. An installation with an existing Section 106 agreement document in place that addresses ammunition storage facilities can choose to:

(i) Continue to follow the stipulations in the existing agreement document for the remaining period of the agreement; or

(ii) Seek to amend the existing agreement document to incorporate, in whole or in part, the terms of this Program Comment; or

(iii) Terminate the existing agreement document, and re-initiate consultation informed by this Program Comment if necessary.

3. All future Section 106 agreement documents developed by the Military Departments related to the undertakings and properties addressed in this Program Comment shall include appropriate provisions detailing whether and how the terms of this Program Comment apply to such undertakings.

IV. Completion Schedule

On or before 60 days following issuance of the Program Comment, DoD, its Military Department and ACHP will establish a schedule for completion of the treatments outlined above.

V. Effect of the Program Comment

By following this Program Comment, DoD and its Military Departments meet their responsibilities for compliance under Section 106 regarding the effect of the following management actions on World War II and Cold War Era ammunition storage facilities that may be listed or eligible for listing on the National Register of Historic Places: Ongoing operations, maintenance and repair, rehabilitation, renovation, mothballing, cessation of maintenance, new construction, demolition, deconstruction and salvage, remediation activities, and transfer, sale, lease, and closure of such facilities. Accordingly, DoD installations are no longer required to follow the case-by-case Section 106 review process for such effects.

As each of the Military Departments is required under this Program Comment to document their own facilities, failure of any one Military Department to comply with the terms of the Program Comment will not adversely affect the other Departments' abilities to continue managing their properties under the Program Comment.

VI. Duration and Review of the Program Comment

This Program Comment will remain in effect until such time as the Office of the Secretary of Defense determines that such comments are no longer needed and notifies ACHP in writing, or ACHP withdraws the comments in accordance with 36 CFR 800.14(e)(6). Following such withdrawal, DoD and its Military Departments would be required to comply with the requirements of 36 CFR 800.3 through 800.7 regarding the effects under this Program Comments' scope.

DoD and ACHP will review the implementation of the Program Comment ten years after its issuance.

Authority: 36 CFR 800.14(e).

Dated: April 7, 2006.
John M. Fowler,
Executive Director.

[FR Doc. 06-3511 Filed 4-11-06; 8:45 am]

BILLING CODE 4310-K6-M